DEPARTMENT OF ENERGY

Federal Energy Regulatory Commission

[Docket No. RP02-13-006]

Portland Natural Gas Transmission System; Notice of Compliance Filing

February 5, 2003.

Take notice that on January 29, 2003, Portland Natural Gas Transmission System (PNGTS) tendered for filing as part of its FERC Gas Tariff, Original Volume No. 1, the following revised tariff sheets to become effective on March 1, 2003:

Fourth Revised Sheet No. 100—Alternate Third Revised Sheet No. 100

Second Revised Sheet No. 504—Alternate First Revised Sheet No. 504

First Revised Sheet No. 505

PNGTS states that the purpose of this filing is to comply with the Commission's January 14, 2003, order in the above-captioned docket, which approved an uncontested settlement filed by PNGTS on October 25, 2002. PNGTS states that the settlement resolved all issues set for hearing in this general rate proceeding, and that the Commission's January 14, 2003, order approving the settlement also approved the tendered tariff changes, which were submitted on pro forma tariff sheets as part of the settlement. The Commission's January 14, 2003, order directed PNGTS to file the instant tariff sheets within 15 days of the date of that order.

PNGTS states that copies of this filing are being served on all jurisdictional customers, applicable state commissions, and participants in Docket No. RP02-13-000.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 10, 2003.

Magalie R. Salas,
Secretary.

[FR Doc. 03-3361 Filed 2-10-03; 8:45 am]

BILLING CODE 6717-01-P